DEPARTMENT OF TRANSPORTATION

Maritime Administration

[Docket Number MARAD-2021-0209]

Agency Request for Approval of a New Information Collection: Mariner Survey Pre-Test

AGENCY: Maritime Administration, Department of Transportation.

ACTION: Notice and request for comments.

SUMMARY: The Maritime Administration (MARAD) invites public comments about our intention to request the Office of Management and Budget (OMB) approval for a new information collection. This Mariner Survey Pre-Test collection provides for cognitive interviews and a pilot survey of a sample of appropriately credentialed U.S. merchant mariners to validate and improve the study design for a subsequent Mariner Survey.

DATES: Written comments should be submitted by November 15, 2021. MARAD will consider comments filed after this date to the extent practicable.

ADDRESSES: You may submit comments identified by Docket No. MARAD-2021-0209 through one of the following methods:

• Electronic Submission: Go to http://www.regulations.gov. Search by using the docket number (provided above). Follow the instructions for submitting comments on the electronic docket site.

• Mail: Docket Management Facility; U.S. Department of Transportation, 1200 New Jersey Avenue SE, Room PL-401, Washington, DC 20590-0001.

• Hand Delivery: Room PL-401 of the Department of Transportation, 1200 New Jersey Avenue SE, Washington, DC, between 9 a.m. and 5 p.m., Monday through Friday, except Federal Holidays.

Instructions: All submissions must include the agency name and docket number.

Note: All comments received, including any personal information, will be posted without change to the docket and is accessible via http://www.regulations.gov . Input submitted online via www.regulations.gov is not immediately posted to the site. It may take several business days before your submission is posted.

Docket: For access to the docket to read background documents or comments received, go to http://www.regulations.gov at any time or to Room PL-401 of the Department of Transportation, 1200 New Jersey Avenue SE, Washington, DC, between 9 a.m. and 5 p.m., Monday through Friday, except Federal Holidays. The Federal Docket Management Facility's telephone number is 202-366-9826 or 202-366-9317, the fax number is 202-493-2251.

FOR FURTHER INFORMATION CONTACT: You may contact Nuns Jain, Maritime Administration, at 757-322-5801 or by electronic mail at Nuns.Jain@dot.gov. You may send mail to Nuns Jain at Maritime Administration, Building 19, Suite 300, 7737 Hampton Boulevard, Norfolk, Virginia 23505. If you have questions on viewing the Docket, call Docket Operations, telephone: 202-366-9826 or 202-366-9317.

SUPPLEMENTARY INFORMATION: Title of Collection: Mariner Survey Pre-Test.

OMB Control Number: 2133-NEW.

Form Number: Not Applicable.

Type of Review: New information collection.

Background: This voluntary Mariner Survey Pre-Test information collection is limited to cognitive interviews and a pilot survey of a sample of appropriately credentialed U.S. merchant mariners to validate and improve the design of the questionnaire and other survey components for a subsequent full Mariner Survey. The cognitive interviews will be conducted online or via telephone. The pilot survey responses will be primarily collected via an online survey, with a mail survey option.

Upon completion of this Pre-Test collection and analysis, MARAD intends to request separate approval for the full biennial Mariner Survey of all appropriately credentialed U.S. merchant mariners to determine the number of qualified mariners who are available and willing to serve on short notice on U.S. government-owned sealift ships or commercial ships during a period of national need. The most recent survey of this scope was completed in 2002. The availability of a reliable, current estimate on the number of mariners willing to serve in times of war, armed conflict, or national emergency is critical to the U.S. national security.

Respondents: Appropriately credentialed U.S. merchant mariners.

Affected Public: Individuals or Households.

Total Estimated Number of Responses: 690 (40 for cognitive interviews; 650 for pilot survey).

Frequency: One-time.

Estimated Time per Respondent: 45 minutes for cognitive interviews; 20 minutes for pilot survey.

Total Estimated Number of Annual Burden Hours: 247.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

(Authority: The Paperwork Reduction Act of 1995; 44 U.S.C. Chapter 35, as amended; and 49 CFR 1.93.)

By Order of the Acting Maritime Administrator.
T. Mitchell Hudson, Jr.,
Secretary, Maritime Administration.

[FR Doc. 2021-19808 Filed 9-13-21; 8:45 am]

BILLING CODE 4910-81-P